DEPARTMENT OF THE TREASURY

Financial Crimes Enforcement Network

Office of the Comptroller of the Currency

Office of Thrift Supervision

BOARD OF GOVERNORS OF THE FEDERAL RESERVE SYSTEM

FEDERAL DEPOSIT INSURANCE CORPORATION

NATIONAL CREDIT UNION ADMINISTRATION

Agency Information Collection Activities; Renewal of a Currently Approved Collection; Comment Request; Suspicious Activity Report by Depository Institutions

AGENCIES: Board of Governors of the Federal Reserve System (Board), Federal Deposit Insurance Corporation (FDIC), Financial Crimes Enforcement Network (FinCEN), National Credit Union Administration (NCUA), Office of the Comptroller of the Currency(OCC), Office of Thrift Supervision (OTS).

ACTION: Notice and request for comments.

SUMMARY: FinCEN and the Banking Supervisory Agencies,¹ as part of their continuing effort to reduce paperwork and respondent burden, invite the general public and other Federal agencies to take this opportunity to comment on information collections, as required by the Paperwork Reduction Act of 1995, Public Law 104-13 (44 U.S.C. 3506(c)(2)(A)). FinCEN and the Banking Supervisory Agencies are soliciting comments concerning the currently approved Suspicious Activity Report by Depository Institutions, which is being renewed without change.

¹ The term “Banking Supervisory Agencies” is the collective term for the following organizations: The Board of Governors of the Federal Reserve System, Federal Deposit Insurance Corporation, National Credit Union Administration, Office of the Comptroller of the Currency, and Office of Thrift Supervision.

DATES: Written comments should be received on or before June 1, 2009.

ADDRESSES: Interested parties are invited to submit written comments to any or all of the agencies. All comments, which should refer to the Office of Management and Budget (OMB) control numbers, will be shared among the agencies. Direct all written comments as follows:

FinCEN: Financial Crimes Enforcement Network, Post Office Box 39, Vienna, VA 22183, Attention: 1506-0001, Suspicious Activity Report by Depository Institutions.

Comments also may be submitted by electronic mail to the following Internet address: regcomments@fincen.gov with the caption in the body of the text, “Attention: 1506-0001, Suspicious Activity Report by Depository Institutions”.

Board: You may submit comments, identified by FR 2230, by any of the following methods:

• Agency Web Site: http://www.federalreserve.gov. Follow the instructions for submitting comments at http://www.federalreserve.gov/generalinfo/foia/ProposedRegs.cfm.

• Federal E-Rulemaking Portal: http://www.regulations.gov. Follow the instructions for submitting comments.

• E-mail: regs.comments@federalreserve.gov. Include docket number in the subject line of the message.

• Fax: 202/452-3819 or 202/452-3102.

• Mail: Jennifer J. Johnson, Secretary, Board of Governors of the Federal Reserve System, 20th Street and Constitution Avenue, NW., Washington, DC 20551.

All public comments are available from the Board's Web site at: http://www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.,) between 9 a.m. and 5 p.m. on weekdays. Additionally, commenters should send a copy of their comments to the OMB Desk Officer by mail to the Office of Information and Regulatory Affairs, U.S. Office of Management and Budget, New Executive Office Building, Room 10235, 725 17th Street, NW., Washington, DC 20503 or by fax to 202-395-6974.

FDIC: Submit written comments by any of the following methods. All comments should refer to “SAR 3064-0077”:

• http://www.FDIC.gov/regulations/laws/federal/notices.html.

• E-mail: comments@fdic.gov. Include “SAR 3064-0077” in the subject line of the message.

• Mail: Gary A. Kuiper (202-898-3877), Counsel, Federal Deposit Insurance Corporation, F-1072, 550 17th Street, NW., Washington, DC 20429.

• Hand Delivery: Comments may be hand-delivered to the guard station at the rear of the 550 17th Street Building (located on F Street), on business days between 7 a.m. and 5 p.m.

NCUA: Clearance Officer: Mr. Douglas Verner, (703) 518-6440, National Credit Union Administration, 1775 Duke Street, Alexandria, VA 22314-3428, Fax No. (703) 518-6684, E-mail: dverner@ncua.gov.

OCC: Communications Division, Office of the Comptroller of the Currency, Public Information Room, Mailstop 2-3, Attention: 1557-0180, 250 E Street, SW., Washington, DC 20219. In addition, comments may be sent by fax to (202) 874-5274, or by electronic mail to regs.comments@occ.treas.gov. You may personally inspect and photocopy comments at the OCC's Public Information Room, 250 E Street, SW., Washington, DC. For security reasons, the OCC requires that visitors make an appointment to inspect comments. You may do so by calling (202) 874-4700. Upon arrival, visitors will be required to present valid government-issued photo identification and submit to security screening in order to inspect and photocopy comments.

Additionally, you should send a copy of your comments to OCC Desk Officer, 1557-0180, by mail to U.S. Office of Management and Budget, 725, 17th Street, NW., #10235, Washington, DC 20503, or by fax to (202) 395-6974.

OTS: Information Collection Comments, Chief Counsel's Office, Office of Thrift Supervision, 1700 G Street, NW., Washington, DC 20552; send a facsimile transmission to (202) 906-6518; or send an e-mail to infocollection.comments@ots.treas.gov. The Office of Thrift Supervision will post comments and the related index on its Internet site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: Requests for additional information or a copy of the collection may be obtained by contacting:

FinCEN: Regulatory Policy and Programs Division at (800) 949-2732 and selecting option 7.

Board: Michelle Shore, Federal Reserve Board Clearance Officer (202-452-3829), Division of Research and Statistics, Board of Governors of the Federal Reserve System, Washington, DC 20551. Telecommunications Device for the Deaf (TDD) users may contact (202) 263-4869, Board of Governors of the Federal Reserve System, Washington, DC 20551.

FDIC: Gary A. Kuiper, Legal Division F-1072, Federal Deposit Insurance Corporation, 550 17th Street, NW., Washington, DC 20429, (202-898-3877).

NCUA: Tracy Sumpter, Office of the Chief Information Officer, (703) 518-6444 or Dana Brewington, Office of General Counsel, (703) 518-6554.

OCC: You can request additional information or a copy of the collection from Mary Gottlieb, OCC Clearance Officer, Office of the Comptroller of the Currency, 250 E Street, SW., Washington, DC 20219.

OTS: Ira L. Mills, OTS Clearance Officer, Regulations and Legislation Division, Chief Counsel Office, Office of Thrift Supervision, 1700 G Street, NW., Washington, DC 20552, (202) 906-6531.

SUPPLEMENTARY INFORMATION: Title: Suspicious Activity Report by Depository Institutions (SAR). The Office of the Comptroller of the Currency is renewing without change all information collections covered under the information collection titled: “(MA)—Minimum Security Devices and Procedures, Reports of Suspicious Activities, and Bank Secrecy Act Compliance—12 CFR 21.” The FDIC is renewing all information collections covered under the information collected pursuant to Part 353-Suspicious Activity Reports, 12 CFR Part 353. FinCEN is also renewing without change the information collections in 31 CFR 103.18.

OMB Control Numbers:

Financial Crimes Enforcement Network: 1506-0001.

Board of Governors of the Federal Reserve System: 7100-0212.

Federal Deposit Insurance Corporation: 3064-0077.

National Credit Union Administration: 3133-0094.

Office of the Comptroller of the Currency: 1557-0180.

Office of Thrift Supervision: 1550-0003.

Form Numbers:

Financial Crimes Enforcement Network: Form 111.

Board of Governors of the Federal Reserve System: FR 2230.

Federal Deposit Insurance Corporation: 6710/06.

National Credit Union Administration: 2362.

Office of the Comptroller of the Currency: 8010-1/8010-9.

Office of Thrift Supervision: 1601.

Abstract: In 1985, the Banking Supervisory Agencies issued procedures to be used by banks and certain other financial institutions operating in the United States to report known or suspected criminal activities to the appropriate law enforcement and Banking Supervisory Agencies. Beginning in 1994, the Banking Supervisory Agencies and the FinCEN redesigned the reporting process resulting in the Suspicious Activity Report, which became effective in April 1996. The report is authorized by the following regulations: 31 CFR 103.18 (FinCEN); 12 CFR 21.11 (OCC); 12 CFR 563.180 (OTS); 12 CFR 208.62(c), 211.5(k), 211.24(f), and 225.4(f) (Board); 12 CFR 353.3 (FDIC); 12 CFR 748.1 (NCUA). The regulations were issued under the authority contained in the following statutes: 31 U.S.C. 5318(g) (FinCEN); 12 U.S.C. 93a, 1818, 1881-84, 3401-22, 31 U.S.C. 5318 (OCC); 12 U.S.C. 1463 and 1464 (OTS); 12 U.S.C. 248(a)(1), 625, 1818, 1844(c), 3105(c)(2) and 3106(a) (Board); 12 U.S.C1818-1820 (FDIC); 12 U.S.C. 1766(a), 1789(a) (NCUA).

Current Action: The Banking Supervisory Agencies and the FinCEN propose to renew, without revision, the currently approved form.²

² The form being renewed was approved by OMB effective June 30, 2007. On May 1, 2007, FinCEN published a Federal Register notice (72 FR 23891) (http://www.fincen.gov/statutes_regs/frn/pdf/sar_fr_notice.pdf) announcing the delayed implementation of the revised Suspicious Activity Report (SAR) forms. The revised SAR forms that support joint filings were originally scheduled to become effective on June 30, 2007 and mandatory on December 31, 2007. The delay in implementation does not impact ongoing suspicious activity reporting. Filers should continue to use the July 2003 form until further notice (http://www.fincen.gov/forms/files/f9022-47_sar-di.pdf). FinCEN will establish new dates for using the revised SAR forms in a future notice. Depository institutions will be provided ample lead time to incorporate the approved version.

Type of Review: Renewal of a currently approved collection.

Affected Public: Business, for-profit institutions, and non-profit institutions.

Estimated Number of Respondents:

Financial Crimes Enforcement Network: 22,387.³

³ Respondents comprise many of the same institutions responding to the Supervisory Agencies.

Board of Governors of the Federal Reserve System: 7,000.

Federal Deposit Insurance Corporation: 5,148.

National Credit Union Administration: 7,834.

Office of the Comptroller of the Currency: 1,601.

Office of Thrift Supervision: 804.

Estimated Total Annual Responses:

FinCEN: 672,297.

Board: 86,404.

FDIC: 133,151.

NCUA: 56,500.

OCC: 337,421.

OTS: 58,821.

Estimated Total Annual Burden: Estimated 60 minutes per form:

FinCEN: 889,839 hours.⁴

⁴ Only one form is filed in satisfaction of the rules of both FinCEN and the banking supervisory agencies. The estimated burden per form is 60 minutes; the hourly burden does not attempt to allocate that time between agencies when the form is filed in satisfaction of the rules of more than one agency.

Board: 86,404 hours.

FDIC: 133,151 hours.

NCUA: 56,500 hours.

OCC: 449,086 hours.

OTS: 164,698 hours.

An agency may not conduct or sponsor, and a person is not required to respond to, a collection of information unless the collection of information displays a valid Office of Management and Budget control number. Records required to be retained under the Bank Secrecy Act and these regulations issued by the Banking Supervisory Agencies must be retained for five years. Generally, information collected pursuant to the Bank Secrecy Act is confidential, but may be shared as provided by law with regulatory and law enforcement authorities.

Request for Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology, and (e) estimates of capital or start-up costs and costs of operation, maintenance, and purchase of services to provide information.

Dated: March 9, 2009.
James H. Freis, Jr.
Director, Financial Crimes Enforcement Network.
Dated: March 5, 2009.
Michele Meyer,
Assistant Director, Legislative and Regulatory Activities Division, Office of the Comptroller of the Currency.
Dated: March 10, 2009.
Deborah Dakin,
Senior Deputy Chief Counsel, Regulations and Legislation Division, Office of Thrift Supervision.
By the Board of Governors of the Federal Reserve System on March 12, 2009.
Jennifer J. Johnson,
Secretary of the Board.
By Order of the Board of Directors.
Dated at Washington, DC, this 27th day of February, 2009.
Federal Deposit Insurance Corporation.
Robert E. Feldman,
Executive Secretary.
By the National Credit Union Administration Board on March 23, 2009.
Mary Rupp,
Secretary of the Board.

[FR Doc. E9-7242 Filed 3-31-09; 8:45 am]

BILLING CODE 4810-02-P